DEPARTMENT OF COMMERCE

[I.D. 082701C]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title: Monthly Cold Storage Report.

Form Number(s): NOAA Form 88-16.

OMB Approval Number: 0648-0015.

Type of Request: Regular submission.

Burden Hours: 165.

Number of Respondents: 103.

Average Hours Per Response: 8 minutes.

Needs and Uses: Information is collected from cold storage warehouses on a voluntary basis about the quantity of fish and shellfish held in cold storage. The data are used by industry for planning and by Fishery Management Councils and the National Marine Fisheries Service for fishery management and development purposes.

Affected Public: Business or other for-profit organizations.

Frequency: Monthly.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 23, 2001.
Gwellnar Banks,
Management Analyst, Office of the Chief Information Officer.

[FR Doc. 01-21956 Filed 8-29-01; 8:45 am]

BILLING CODE 3510-22-S